DEPARTMENT OF AGRICULTURE

Animal and Plant Health Inspection Service

[Docket No. APHIS-2023-0037]

Notice of Request for Extension of Approval of an Information Collection; Scrapie in Sheep and Goats; Interstate Movement Restrictions and Indemnity Program

AGENCY: Animal and Plant Health Inspection Service, USDA.

ACTION: Extension of approval of an information collection; comment request.

SUMMARY: In accordance with the Paperwork Reduction Act of 1995, this notice announces the Animal and Plant Health Inspection Service's intention to request an extension of approval of an information collection associated with regulations for the interstate movement of sheep and goats and an indemnity program for controlling the spread of scrapie.

DATES: We will consider all comments that we receive on or before July 24, 2023.

ADDRESSES: You may submit comments by either of the following methods:

• Federal eRulemaking Portal: Go to http://www.regulations.gov. Enter APHIS-2023-0037 in the Search field. Select the Documents tab, then select the Comment button in the list of documents.

• Postal Mail/Commercial Delivery: Please send one copy of your comment to Docket No. APHIS-2023-0037, Regulatory Analysis and Development, PPD, APHIS, Station 3A-03.8, 4700 River Road Unit 118, Riverdale, MD 20737-1238.

Supporting documents and any comments we receive on this docket may be viewed at http://www.regulations.gov or in our reading room, which is in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the domestic regulations to control the spread of scrapie, contact Dr. Diane Sutton, Assistant Director, Ruminant Health Center, Strategy & Policy, VS, APHIS, 4700 River Road, Unit 43, Riverdale, MD 20737; (240) 461-4050. For more detailed information on the information collection process, contact Mr. Joseph Moxey, APHIS' Paperwork Reduction Act Coordinator, at (301) 851-2483; email: joseph.moxey@usda.gov.

SUPPLEMENTARY INFORMATION:

Title: Scrapie in Sheep and Goats; Interstate Movement Restrictions and Indemnity Program.

OMB Control Number: 0579-0101.

Type of Request: Extension of approval of an information collection.

Abstract: Under the Animal Health Protection Act (7 U.S.C. 8301 et seq.), the Animal and Plant Health Inspection Service (APHIS) of the U.S. Department of Agriculture is authorized, among other things, to prohibit or restrict the interstate movement of animals and animal products to prevent the dissemination within the United States of animal diseases and pests of livestock and to conduct programs to detect, control, and eradicate pests and diseases of livestock.

Scrapie is a progressive, degenerative, and eventually fatal disease affecting the nervous system of sheep and goats. Its control is complicated because the disease has an extremely long incubation period without clinical signs of disease and no known treatment. The regulations in 9 CFR part 54 describe requirements related to the indemnity program, flock cleanup, testing, and a Scrapie Free Flock Certification Program (SFCP). Associated information collection activities include SFCP flock inspection reports; cooperative agreement and grant workplans, financial plans, and reports; memoranda of understanding; requests for information and reports on animals moved; records of animals acquired; scrapie epidemiology reports; appraisal and indemnity claims; written agreements and certifications; inventories and claims of animal value; receipts of disposal expenses (payment of indemnity); reports for U.S. Environmental Protection Agency exempted disinfectants used; flock plans; post exposure management and monitoring plans; reports of suspect or dead animals; scrapie Post Exposure Monitoring and Management Plan inspection reports; program approvals of tests for scrapie; cooperative State-Federal scrapie control program scrapie test records; specimen submissions; requests for laboratory approval; and applications for the scrapie flock certification program.

Regulations in 9 CFR part 79 describe requirements related to restrictions on the interstate movement of certain sheep and goats to control the spread of scrapie. Associated information collection activities include interstate certificates of veterinary inspection; requests by a breed registry to have its tattoos approved as official identification; requests for approval of sheep or goat identification device types or methods not currently approved; applications for and assignment of identification numbers or official tags including blue tags; an optional application for and assignment of identification numbers; reports when identification is applied; requests to move animals in interstate commerce; requests to replace official identification for lost or damaged official identification devices; requests for approval to produce or renew approval to produce official identification devices; agreements to send official ear tags to specified individuals; monthly reports of official identification produced; data entry of official identification devices produced and assigned; compliance agreements and reports for consignments when identification is applied; declinations to participate or provide information; herd owner notification of designation of flocks or animals; permits for movement of restricted animals; State application for scrapie classification, classification renewal, or reclassification of a State; epidemiology and identification compliance reports; and concurrence with APHIS/State animal designation.

Information collection activities associated with both parts 54 and 79 include training and approval of designated scrapie epidemiologists, waivers of requirements for scrapie control pilot projects, appeals of APHIS decisions, approval of terminal feedlots, and owner/hauler statements.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection echnologies; e.g., permitting electronic submission of responses.

Estimate of burden: The public burden for this collection of information is estimated to average 0.77 hours per response.

Respondents: Flock owners; market owners, operators, or managers; dealers; slaughter plant owners, operators, or managers; feedlot owners, operators, or managers; tag manufacturers; managers of producer organizations; accredited veterinarians; and State animal health authorities.

Estimated annual number of respondents: 174,851.

Estimated annual number of responses per respondent: 6.

Estimated annual number of responses: 1,082,777.

Estimated total annual burden on respondents: 828,878 hours. (Due to averaging, the total annual burden hours may not equal the product of the annual number of responses multiplied by the reporting burden per response.)

All responses to this notice will be summarized and included in the request for OMB approval. All comments will also become a matter of public record.

Done in Washington, DC, this 18th day of May 2023.
Michael Watson,
Acting Administrator, Animal and Plant Health Inspection Service.

[FR Doc. 2023-11063 Filed 5-23-23; 8:45 am]

BILLING CODE 3410-34-P